DEPARTMENT OF THE TREASURY

Departmental Offices; Privacy Act of 1974, as Amended

AGENCY: Departmental Offices, Treasury.

ACTION: Notice of Proposed Privacy Act System of Records.

SUMMARY: In accordance with the Privacy Act of 1974, as amended, the Departmental Offices, U.S. Department of the Treasury (“Treasury”) gives notice of the establishment of one Privacy Act System of Records.

DATES: Comments must be received no later than January 31, 2011. The new system of records will be effective January 31, 2011 unless the comments received result in a contrary determination.

ADDRESSES: Comments should be sent to Claire Stapleton, Consumer Financial Protection Bureau (CFPB) Implementation Team, 1801 L Street, NW., Washington, DC 20036.

Comments will be made available for inspection upon written request. Treasury will make such comments available for public inspection and copying in Treasury's Library, Room 1428, Main Treasury Building, 1500 Pennsylvania Avenue, NW., Washington, DC 20220, on official business days between the hours of 10 a.m. and 5 p.m. Eastern Time. You can make an appointment to inspect comments by telephoning (202) 622-0990. All comments, including attachments and other supporting materials, will become part of the public record and subject to public disclosure. You should submit only information that you wish to make available publicly.

FOR FURTHER INFORMATION CONTACT: Claire Stapleton, Consumer Financial Protection Bureau Implementation Team, 1801 L Street, NW., Washington, DC 20036, (202) 435-7220.

SUPPLEMENTARY INFORMATION: The Dodd-Frank Wall Street Reform and Consumer Protection Act (“Act”), Public Law 111-203, Title X, established the Consumer Financial Protection Bureau (CFPB). Once fully operational, CFPB will administer, enforce and implement Federal consumer financial protection laws, and, among other powers, will have authority to protect consumers from unfair, deceptive, and abusive practices when obtaining consumer financial products or services. The Act grants Treasury certain “interim authority” to help stand up the agency. The CFPB implementation team, currently within Treasury, will maintain the records covered by this Notice.

The new systems of records described in this Notice, Treasury/DO.320—CFPB Implementation Team Mailing List Database will focus on collecting mailing list information on individuals who have indicated an interest in receiving information from CFPB concerning CFPB and its initiatives and activities. A description of the new system of records follows this Notice.

The report of a new system of records has been submitted to the Committee on Oversight and Government Reform of the House of Representatives, the Committee on Homeland Security and Governmental Affairs of the Senate, and the Office of Management and Budget, pursuant to Appendix I to OMB Circular A-130, “Federal Agency Responsibilities for Maintaining Records About Individuals,” dated November 30, 2000, and the Privacy Act, 5 U.S.C. 552a(r).

The system of records entitled “Treasury/DO.320—CFPB Implementation Team Mailing List Database” is published in its entirety below.

Dated: December 15, 2010.
Melissa Hartman,
Deputy Assistant Secretary for Privacy and Treasury Records.

TREASURY/DO.320

System Name:

CFPB Implementation Team Mailing List Database.

System Location:

Consumer Financial Protection Bureau Implementation Team, 1801 L Street, NW., Washington, DC 20036.

Categories of individuals covered by the system:

All persons appearing on mailing lists maintained by the CFPB implementation team to facilitate mailings to multiple addresses. These lists include individuals who may have attended CFPB programs, exhibits, conferences, or similar events; may have participated in a voluntary web-based or other survey offered by CFPB or its contractors; or may have otherwise asked to be added to our mailing list. Information collected is subject to the Privacy Act only to the extent that it concerns individuals; information pertaining to corporations and other business entities and organizations is not subject to the Privacy Act.

Categories of records in the system:

Records in the system are limited to the following four pieces of information: name, mailing address, phone number, and email address. The system may also contain a computer-generated identifier or case number in order to retrieve information.

Authority for maintenance of the system:

Public Law 111-203, Title X, Sec. 1066, codified at 12 U.S.C. 5586.

Purpose(s):

The purpose of this system of records is to maintain lists of individuals who have indicated an interest in receiving information from CFPB concerning CFPB's activities and initiatives, and the CFPB implementation team will use the information in the system to distribute such information to those individuals. Mailing list information from survey participants will not be stored with the survey results.

Routine Uses of Records Maintained in the System, Including Categories of Users and the Purposes of Such Uses:

These records may be disclosed to:

(1) Congressional office in response to an inquiry made at the request of the individual to whom the record pertains;

(2) Disclose information to the U.S. Department of Justice (“DOJ”) for its use in providing legal advice to the Treasury Department (Department) or in representing the Department in a proceeding before a court, adjudicative body, or other administrative body before which the Department is authorized to appear, where the use of such information by the DOJ is deemed by the Department to be relevant and necessary to the litigation, and such proceeding names as a party or interests:

(a) The Department or any component thereof;

(b) Any employee of the Department in his or her official capacity;

(c) Any employee of the Department in his or her individual capacity where DOJ has agreed to represent the employee; or

(d) The United States, where the Department determines that litigation is likely to affect the Department or any of its components.

(3) The National Archives and Records Administration for use in records management inspections;

(4) A contractor or agent who needs to have access to this system of records to perform an assigned activity;

(5) Appropriate agencies, entities, and persons when (a) the Department suspects or has confirmed that the security or confidentiality of information in the system of records has been compromised; (b) the Department has determined that as a result of the suspected or confirmed compromise there is a risk of harm to economic or property interests, identity theft or fraud, or harm to the security or integrity of this system or other systems or programs (whether maintained by the bureau or another agency or entity) that rely upon the compromised information; and (c) the disclosure made to such agencies, entities, and persons is reasonably necessary to assist in connection with the Department's efforts to respond to the suspected or confirmed compromise and prevent, minimize, or remedy such harm.

Policies and Practices for Storing, Retrieving, Accessing, Retaining, and Dispensing of Records in the System:

Storage:

Records maintained in this system are stored electronically and in file folders. Paper copies of individual records are made by the authorized CFPB Implementation Team staff.

Retrievability:

Records are retrievable by any of the four fields of information in the system or the computer-generated identifier or case number.

Safeguards:

Access to electronic records is restricted to authorized personnel who have been issued non-transferrable access codes and passwords. Other records are maintained in locked file cabinets or rooms with access limited to those personnel whose official duties require access.

Retention and disposal:

Computer and paper records will be maintained indefinitely until a records disposition schedule is approved by the National Archives Records Administration.

System manager(s) and address:

Consumer Financial Protection Bureau Implementation Team, 1801 L Street, NW., Washington, DC 20036.

Notification procedure:

Individuals seeking notification and access to any record contained in this system of records, or seeking to contest its content, may inquire in writing in accordance with instructions appearing at 31 CFR part 1, subpart C, appendix A. Address such requests to: Disclosure Services Director, Disclosure Services, Department of the Treasury, 1500 Pennsylvania Ave., NW., Washington, DC 20220.

Record access procedures:

See “Notification Procedures” above.

Contesting record procedures:

See “Notification Procedures” above.

Record source categories:

Information in this system is obtained from individuals.

Exemptions claimed for the system:

None.

[FR Doc. 2010-32918 Filed 12-29-10; 8:45 am]

BILLING CODE 4810-25-P